DEPARTMENT OF THE INTERIOR

Bureau of Indian Affairs

Draft Environmental Impact Statement for the Proposed Pueblo of Jemez 70.277-Acre Fee-to-Trust Transfer and Casino Project, Doña Ana County, NM

AGENCY: Bureau of Indian Affairs, Department of the Interior.

ACTION: Notice of availability.

SUMMARY: This notice advises the public that the Bureau of Indian Affairs (BIA), as lead agency, in cooperation with the Pueblo of Jemez, intends to file a Draft Environmental Impact Statement (DEIS) with the U.S. Environmental Protection Agency (EPA) for the proposed approval of a 70.277 acre fee-to-trust transfer and casino project to be located within Doña Ana County, New Mexico. Details on the proposed action, location, and areas of environmental concern addressed in the DEIS are provided in the SUPPLEMENTARY INFORMATION section of this notice. This notice also announces a public hearing to receive comments on the DEIS.

DATES: Written comments on the DEIS must arrive by May 23, 2011. The public hearing on the DEIS will be held on Saturday, April 30, 2011, from 10 a.m. to 2 p.m., or until the last public comment is received.

ADDRESSES: You may mail or hand-carry written comments to William Walker, Regional Director, Bureau of Indian Affairs, Southwest Regional Office, 1001 Indian School Road, NW., Albuquerque, New Mexico 87104. The public hearing will be held at the Loma Linda Elementary School, 1451 Donaldson Avenue, Anthony, New Mexico 88021. See the SUPPLEMENTARY INFORMATION section of this notice for locations where the DEIS is available for review and for directions on submitting comments.

FOR FURTHER INFORMATION CONTACT: Priscilla Wade (505) 563-3417.

SUPPLEMENTARY INFORMATION: The Pueblo of Jemez proposes that 70.277 acres, within a 102.13-acre tract of land, be taken into trust and that a temporary and a permanent casino be constructed on these trust lands. In addition, a hotel is proposed for construction on the 31.855-acres remaining in fee status. The proposed site is located on the southwest corner of Interstate 10 and New Mexico State Road 404 (O'Hara Road), adjacent to the City of Anthony in Doña Ana County, New Mexico. The Pueblo of Jemez, through its Tribal Gaming Enterprise, will operate the casino facility. The BIA is the lead agency for the DEIS on this project. There are no cooperating agencies. A public scoping meeting for the DEIS was held by the BIA on March 16, 2005, in Anthony, New Mexico.

The Pueblo proposes to build and operate a 24,000-square foot temporary casino while building a permanent gaming facility with a planned 103,500 total square feet on trust-acquired land that is adjacent to a proposed 90,000 square-foot hotel facility located on fee land. Access to the facilities would be from O'Hara Road and the west frontage road along I-10. The temporary and permanent casinos and hotel would include associated parking.

Environmental issues addressed in the DEIS include land and water resources, air quality, biological resources, cultural resources, socio-economic conditions, resource use patterns, public services, noise, hazardous materials, visual resources, environmental justice, growth-inducing effects, cumulative impacts, and unavoidable adverse effects. Alternatives to the proposed project considered in the DEIS include: (1) Trust Acquisition with temporary and permanent casino, and hotel construction; (2) Trust Acquisition with permanent casino and hotel construction; and (3) No Action.

Directions for Submitting Comments: Please include your name, return address and the caption, “DEIS Comments, Pueblo of Jemez Proposed 70.277-acre Fee-to-Trust Transfer and Casino Project” on the first page of your written comments.

Locations where the DEIS is Available for Review: The DEIS is available for review at the following locations.

Location | Address | For information on the location, call:
City of Anthony City Hall | 320 Lincoln Street, Anthony, New Mexico 88021 | (575) 882-2983.
Pueblo of Jemez Administrative Office | 4471 Highway 4, Pueblo of Jemez, New Mexico 87024 | (575) 834-7359 (contact: Ashley Chinana).
BIA Southwest Regional Office | 1001 Indian School Road, NW., Albuquerque, New Mexico 87104 | (505) 563-3417.

The DEIS is also available for public review on the following Web sites:

• http://www.anthonycasinofacts.com, and

• http://www.jemezpueblo.org.

If you would like to obtain a CD copy of the DEIS, please write or call Priscilla Wade, Regional Environmental Protection Specialist, Bureau of Indian Affairs, Division of Environmental, Safety, and Cultural Resources Management, Southwest Regional Office, 1001 Indian School Road, NW., Albuquerque, New Mexico 87104.

Public Comment Availability: Comments, including names and addresses of respondents, will be available for public review at the BIA mailing address shown in the ADDRESSES section of this notice, during regular business hours, 8 a.m. to 4:30 p.m., Monday through Friday, except holidays. Before including your address, telephone number, e-mail address, or other personal identifying information in your comment, you should be aware that your entire comment—including your personal identifying information—may be made publicly available at any time. While you can ask us in your comment to withhold your personal identifying information from public review, we cannot guarantee that we will be able to do so.

Authority: This notice is published pursuant to Sec. 1503.1 of the Council of Environmental Quality Regulations (40 CFR part 1500 through 1508) and Sec. 46.305 of the Department of Interior Regulations (43 CFR part 46), implementing the procedural requirements of the NEPA of 1969, as amended (42 U.S.C. 4371 et seq.), and is in the exercise of authority delegated to the Assistant Secretary—Indian Affairs by 209 DM 8.

Dated: March 25, 2011.
Jodi Gillette,
Deputy Assistant Secretary—Indian Affairs.

[FR Doc. 2011-8035 Filed 4-7-11; 8:45 am]

BILLING CODE 4310-W7-P